DEPARTMENT OF COMMERCE

National Oceanic and Atmospheric Administration

[RTID 0648-XA036]

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Advisory Panel to consider actions affecting New England fisheries in the exclusive economic zone (EEZ). Recommendations from this group will be brought to the full Council for formal consideration and action, if appropriate.

DATES: This meeting will be held on Wednesday, February 26, 2020 at 8:30 a.m.

ADDRESSES: The meeting will be held at the Hilton Garden Inn, 100 Boardman Street, Boston, MA 02128; telephone: (617) 567-6789.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Scallop Advisory Panel will receive an update on Framework Adjustment 32 submission and 2020 scallop work priorities. The panel plans to discuss 2019 fishery performance and outlook for 2020. They will also talk about Amendment 21: Reviewing progress in 2019 and discuss outlook for 2020. They also plan to review Plan Development Team (PDT) progress on Committee tasking and develop input on range of alternatives. The focus on this discussion will primarily be about Northern Gulf of Maine measures. The Advisory Panel and Committee will have additional discussion on Limited Access General Category (LAGC) Individual Fishing Quota (IFQ) trip limits and the one-way transfer of IFQ from Limited Access (LA) to LAGC at the March 26 and 27, 2020 meetings. They plan to discuss modifications to scallop dredge exemption areas, status of type-approved vessel monitoring system (VMS) units, and implications of larger crew limits on trips to the Nantucket Lightship South Deep (NLS-S-deep) area on ability of vessels to carry observers (lift raft capacity). Other business may be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. Consistent with 16 U.S.C. 1852, a copy of the recording is available upon request.

Authority: 16 U.S.C. 1801 et seq.

Dated: February 7, 2020.
Tracey L. Thompson,
Acting Deputy Director, Office of Sustainable Fisheries, National Marine Fisheries Service.

[FR Doc. 2020-02775 Filed 2-11-20; 8:45 am]

BILLING CODE 3510-22-P